DEPARTMENT OF JUSTICE

Notice of Lodging of Consent Decree Under the Comprehensive Environmental Response, Compensation and Liability Act (“CERCLA”)

Consistent with Departmental policy 28 CFR § 50.7, 38 FR 19029, and 42 U.S.C. § 9622(d), notice is hereby given that on March 8, 2004, a proposed consent decree in United States v. Atlantic Richfield Company, Inc., Civil Action No. 02-CV-0485E, was lodged with the United States District Court for the Western District of New York.

In this action, the United States sought recovery of response costs, pursuant to Section 107(a) of CERCLA, 42 U.S.C. § 9607(a), incurred related to the Sinclair Refinery Superfund Site located in the Village and Town of Wellsville, Allegany County, New York. The Consent Decree requires settling defendant Atlantic Richfield Company to pay $1,834,712 to the United States reimbursement of past response costs incurred with respect to the Site, and to pay all future oversight costs incurred by the United States with respect to the Site, subject to certain annual caps. The Department of Justice will receive for a period of thirty (30) days from the date of this publication comments relating to the consent decree. Comments should be addressed to the Assistant Attorney General, Environment and Natural Resources Division, P.O. Box 7611, U.S. Department of Justice, Washington, DC 20044-7611, and should refer to United States v. Atlantic Richfield Company, Inc., D.J. Ref. #90-11-3-298/1.

The consent decree may be examined at the Office of the United States Attorney, Western District of New York, Federal Center, 138 Delaware Avenue, 4th Floor, Buffalo, New York 14202 (contact AUSA Mary K. Roach), and at U.S. EPA Region II, 290 Broadway, New York, New York 10007-1866 (contact Carol Berns). During the public comment period, the consent decree also may be examined on the Department of Justice website at http://www.usdoj.gov/enrd/open.html. A copy of the consent decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $15.25 (25 cents per page reproduction cost) payable to the U.S. Treasury.

Ronald G. Gluck,
Assistant Chief, Environmental Enforcement Section, Environmental and Natural Resources Divison.

[FR Doc. 04-6637 Filed 3-24-04; 8:45 am]

BILLING CODE 4410-15-M